ENVIRONMENTAL PROTECTION AGENCY

[EPA-HQ-RCRA-2006-0833; FRL-8513-2]

Waste Management System; Testing and Monitoring Activities; Notice of Availability of Final Update IV of SW-846

AGENCY: Environmental Protection Agency (EPA).

ACTION: Notice of availability.

SUMMARY: The Environmental Protection Agency (EPA or Agency) is providing notice of the availability of “Final Update IV” to the Third Edition of the manual, “Test Methods for Evaluating Solid Waste, Physical/Chemical Methods,” EPA publication SW-846. Final Update IV contains new and revised analytical methods that may be used in monitoring or complying with the Resource Conservation and Recovery Act (RCRA) hazardous waste regulations.

FOR FURTHER INFORMATION CONTACT: Kim Kirkland, EMRAD, Office of Solid Waste (5307P), Environmental Protection Agency, 1200 Pennsylvania Avenue, NW., Washington, DC 20460-0002; telephone number: (703) 308-8855, fax number: (703) 308-0509, e-mail address: kirkland.kim@epa.gov.

SUPPLEMENTARY INFORMATION:

I. General Information

A. How Can I Get Copies of Final Update IV and Other Related Information?

1. Docket. EPA has established a docket for this action under Docket ID No. EPA-RCRA-2006-0833; FRL-6908-4. Publicly available docket materials are available either electronically through http://www.regulations.gov or in hard copy at the OSWER RCRA Docket in the EPA Docket Center (EPA/DC), EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OSWER RCRA Docket is (202) 566-0270.

Electronic Access. You may access this Federal Register document electronically through the EPA Internet under the “Federal Register” listings at http://www.epa.gov/fedrgstr/.

B. How Can I Get Copies of the Third Edition of SW-846 and All of Its Updates?

The Third Edition of SW-846, as amended by Final Updates I, II, IIA, IIB, III, IIIA, IIIB, and IV is available in pdf format on the Internet at http://www.epa.gov/SW-846. Table 1 below provides sources for both paper and electronic copies of the Third Edition of SW-846 and all of its updates.

Table 1.—Sources for SW-846, Third Edition, and Its Updates
Source | Available portions of SW-846
National Technical Information Service (NTIS), 5285 Port Royal Road, Springfield, VA 22161, (703) 605-6000 or (800) 553-6847 | —Paper copy of an integrated version of SW-846, Third Edition, as amended by Final Updates I, II, IIA, IIB, III, and IIIA. —Individual paper copies of the SW-846, Third Edition, basic manual and of certain updates, including Final Updates I, II, IIA, IIB, III, IIIA, and IIIB. —CD-ROM of integrated version of SW-846, Third Edition, as amended by Final Updates I, II, IIA, IIB, and III (pdf and WordPerfect electronic copies). —CD-ROM of Draft Update IVA (pdf and WordPerfect electronic copies).
Internet http://www.epa.gov/SW-846 | —Integrated version of SW-846, Third Edition, as amended by Final Updates I, II, IIA, IIB, III, IIIA, IIIB, and IV (pdf electronic copy).

C. How Is the Rest of This Notice Organized?

We list below the order of the major sections of this notice.

II. What is the Subject and Purpose of this Notice?

III. Why is this Update to SW-846 Being Announced in a Notice Instead of Being Promulgated as a Final Rule?

IV. What Does Final Update IV Contain?

II. What Is the Subject and Purpose of This Notice?

We are announcing the availability of Final Update IV to “Test Methods for Evaluating Solid Waste, Physical/Chemical Methods,” EPA Publication SW-846. Final Update IV of SW-846 contains analytical methods that we have evaluated and determined to be appropriate and may be used for monitoring or complying with the RCRA hazardous waste regulations.

The Agency revises the content of SW-846 over time as new information and data are developed. We continually review advances in analytical instrumentation and techniques and periodically incorporate such advances into SW-846 as method updates by adding new methods to the manual, and replacing existing methods with revised versions of the same method. These updates improve analytical method performance and cost effectiveness. To date, we have finalized Updates I, II, IIA, IIB, III, IIIA, and IIIB to the SW-846 manual, which can be found on the Internet at: http://www.epa.gov/epaoswer/hazwaste/test/sw846.htm.

On May 8, 1998, we published a notice of availability for Draft Update IVA in the Federal Register (see 63 FR 25430-25438, Docket No. F-98-4TMA-FFFF) and, on November 27, 2000, we published a notice of availability for Draft Update IVB in the Federal Register (see 65 FR 70678-70681, Docket No. F-2000-4BTA-FFFF). In today's notice, we are announcing the availability of Final Update IV, which combines Draft Updates IVA, IVB, and subsequent revisions made to these Updates based on public comments received.

III. Why Is This Update to SW-846 Being Announced in a Notice Instead of Being Promulgated as a Final Rule?

In the past, EPA proposed and finalized updates to SW-846 as part of a rulemaking. On June 14, 2005, however, EPA published a final rule, referred to as the Methods Innovation Rule (MIR), which removed from the RCRA hazardous waste regulations any requirement to use an analytical method found in SW-846, unless that method is the only one capable of measuring a method-defined parameter (MDP) (70 FR 34538-34592). See the preamble of that rule regarding the Agency's basis for that rulemaking. In addition, the MIR allows the Agency to issue final updates to SW-846 as guidance, provided the analytical methods contained in the update are not required by the RCRA hazardous waste regulations. The Agency will continue to follow Agency guidelines to ensure that methods incorporated into SW-846 are scientifically sound, including the peer review of method documents, as appropriate. We will also continue to request public comment on methods we update through Federal Register notices prior to their incorporation into SW-846.

As the analytical methods contained in Final Update IV are not required by the RCRA hazardous waste regulations, EPA is issuing this update as guidance. EPA solicited public comments on the analytical methods found in Final Update IV in two Federal Register notices (see notice of availability for Draft Update IVA of SW 846 (63 FR 25430) and Draft Update IVB of SW-846 (65 FR 70678)). The docket to Final Update IV (EPA-RCRA-2006-0833) contains a background document with our response to public comments.

IV. What Does Final Update IV Contain?

Final Update IV contains new and revised analytical methods, each dated “February 2007” in its footer. The new and revised analytical methods can be found at: http://www.epa.gov/epaoswer/hazwaste/test/main.htm. Tables 2 through 4 list the documents found in Final Update IV. Table 5 lists those methods that have been deleted.

Table 2 provides a listing of the twenty-four revised SW-846 analytical methods, seven revised chapters and the table of contents and title page. Chapter Eleven (“Ground Water Monitoring”) is included in this listing because, as described in the Draft Update IVA notice, EPA has removed the outdated text of Chapter Eleven of SW-846 and replaced the text with a note to refer the reader to the most current version of the ground-water monitoring guidance originally issued by EPA's Office of Solid Waste (OSW) in 1992.

Table 3 provides a listing of twenty-three new analytical methods found in Update IV. It should be noted that two of the analytical methods (Methods 4500 and 9058) on which the Agency solicited public comment in Draft Updates IVA and IVB are not included in Final Update IV. Specifically, Method 4500, “Mercury in Soil by Immunoassay,” a method in Draft Update IVA, is not included because the method kit is no longer available from its original source. Method 9058, “Determination of Perchlorate Using Ion Chromatography with Chemical Suppression Conductivity Detection,” a method in Draft Update IVB, is not included because EPA determined, based on public comment and other source information, that this version of the analytical method is subject to biased results due to matrix interferences. However, the Agency developed two new and improved analytical methods for perchlorate analyses, SW-846 Methods 6850 and 6860. These methods are not part of the Final Update IV package, but have been validated and are available for use at the EPA Methods Web site, under the heading “New Methods,” http://www.epa.gov/SW-846. Given the development and availability of Methods 6850 and 6860, EPA recommends that Method 9058 only be used for screening or long-term monitoring purposes. Confirmation of perchlorate detection is recommended when analyzing unfamiliar samples using an additional technique. EPA currently plans to include a final version of Method 9058 in the Fourth Edition of SW-846 after additional validation. The final version will also be posted on the EPA Methods Web site if the method is completed prior to official publication of the Fourth Edition.

Table 4 identifies three air sampling methods for which we are providing references in SW-846 as part of Final Update IV. These one page references indicate how one may obtain a copy of each method. We are providing this information in SW-846, for the convenience of the reader.

Finally, Table 5 identifies the forty-four analytical methods to be integrated or deleted from SW-846 as part of Final Update IV. All but one of these analytical methods is an individual flame or graphite furnace atomic absorption method. The exception is Method 3810, “Headspace,” an obsolete headspace screening method which was replaced by Method 5021, “Volatile Organic Compounds in Soils and Other Solid Matrices Using Equilibrium Headspace Analysis.” The Agency is deleting Method 3810 because Method 5021, added to SW-846 as part of Final Update III, can be used for screening applications (in addition to quantitative uses), and can be expected to perform better than Method 3810 as a screening method. The 43 individual atomic absorption methods are being deleted because their inclusion is redundant given that their procedures and target analytes are fully integrated into revised Method 7000B (see Table 2) or new Method 7010 (see Table 3), the general methods for the atomic absorption techniques.

Table 2.—Revised Analytical Methods and Chapters of SW-846 in Final Update IV
Analytical method No. | Method or chapter title
| Table of Contents.
| Chapter Two—Choosing the Correct Procedure.
| Chapter Three—Inorganic Analytes.
| Chapter Four—Organic Analytes.
| Chapter Five—Miscellaneous Test Methods.
| Chapter Six—Properties.
| Chapter Ten—Sampling Methods.
| Chapter Eleven—Ground Water Monitoring.
3015A | Microwave Assisted Acid Digestion of Aqueous Samples and Extracts.
3051A | Microwave Assisted Acid Digestion of Sediments, Sludges, Soils, and Oils.
3500C | Organic Extraction and Sample Preparation.
3535A | Solid-Phase Extraction (SPE).
3545A | Pressurized Fluid Extraction (PFE).
3550C | Ultrasonic Extraction.
3620C | Florisil Cleanup.
6010C | Inductively Coupled Plasma-Atomic Emission Spectrometry.
6020A | Inductively Coupled Plasma-Mass Spectrometry.
7000B | Flame Atomic Absorption Spectrophotometry.
7471B | Mercury in Solid or Semisolid Waste (Manual Cold-Vapor Technique).
8015C | Nonhalogenated Organics by Gas Chromatography.
8041A | Phenols by Gas Chromatography.
8081B | Organochlorine Pesticides by Gas Chromatography.
8082A | Polychlorinated Biphenyls (PCBs) by Gas Chromatography.
8141B | Organophosphorus Compounds by Gas Chromatography.
8270D | Semivolatile Organic Compounds by Gas Chromatography/Mass Spectrometry (GC/MS).
8280B | Polychlorinated Dibenzo-p-Dioxins (PCDDs) and Polychlorinated Dibenzofurans (PCDFs) by High Resolution Gas Chromatography/Low Resolution Mass Spectrometry (HRGC/LRMS).
8290A | Polychlorinated Dibenzo-p-dioxins (PCDDs) and Polychlorinated Dibenzofurans (PCDFs) by High-Resolution Gas Chromatography/High-Resolution Mass Spectrometry (HRGC/HRMS).
8318A | N-Methylcarbamates by High Performance Liquid Chromatography (HPLC).
8321B | Solvent-Extractable Nonvolatile Compounds by High-Performance Liquid Chromatography/Thermospray/Mass Spectrometry (HPLC/TS/MS) or Ultraviolet (UV) Detection.
8330A | Nitroaromatics and Nitramines by High Performance Liquid Chromatography (HPLC).
9056A | Determination of Inorganic Anions by Ion Chromatography.
9210A | Potentiometric Determination of Nitrate in Aqueous Samples with Ion-Selective Electrode.

Table 3.—New Analytical Methods of SW-846 in Final Update IV
Analytical method No. | Method title
1040 | Test Method for Oxidizing Solids.
1050 | Test Methods to Determine Substances Likely to Spontaneously Combust.
3546 | Microwave Extraction.
3562 | Supercritical Fluid Extraction of Polychlorinated Biphenyls (PCBs) and Organochlorine Pesticides.
3815 | Screening Solid Samples for Volatile Organics.
4425 | Screening Extracts of Environmental Samples for Planar Organic Compounds (PAHs, PCBs, PCDDs/PCDFs) by a Reporter Gene on a Human Cell Line.
4670 | Triazine Herbicides as Atrazine in Water by Quantitative Immunoassay.
6200 | Field Portable X-Ray Fluorescence Spectrometry for the Determination of Elemental Concentrations in Soil and Sediment.
6500 | Dissolved Inorganic Anions in Aqueous Matrices by Capillary Ion Electrophoresis.
6800 | Elemental and Speciated Isotope Dilution Mass Spectrometry.
7010 | Graphite Furnace Atomic Absorption Spectrophotometry.
7473 | Mercury in Solids and Solutions by Thermal Decomposition, Amalgamation, and Atomic Absorption Spectrophotometry.
7474 | Mercury in Sediment and Tissue Samples by Atomic Fluorescence Spectrometry.
8085 | Compound-Independent Elemental Quantitation of Pesticides by Gas Chromatography with Atomic Emission Detection (GC/AED).
8095 | Explosives by Gas Chromatography.
8261 | Volatile Organic Compounds by Vacuum Distillation in Combination with Gas Chromatography/Mass Spectrometry (VD/GC/MS).
8510 | Colorimetric Screening Procedure for RDX and HMX in Soil.
8535 | Screening Procedure for Total Volatile Organic Halides in Water.
8540 | Pentachlorophenol (PCP) by UV-Induced Colorimetry.
9000 | Determination of Water in Waste Materials by Karl Fischer Titration.
9001 | Determination of Water in Waste Materials by Quantitative Calcium Hydride Reaction.
9074 | Turbidimetric Screening Method for Total Recoverable Petroleum Hydrocarbons in Soil.
9216 | Potentiometric Determination of Nitrite in Aqueous Samples with Ion-selective Electrode.

Table 4.—Analytical Method References Provided by SW-846 in Final Update IV
Analytical method No. | Method title
25D | Determination of the Volatile Organic Concentration of Waste Samples.
25E | Determination of Vapor Phase Organic Concentration in Waste Samples.
207 | A Method for Measuring Isocyanates in Stationary Source Emissions.

Table 5.—Deleted Analytical Methods
Analytical method No. | Method title
3810 ᵃ | Headspace.
7020 ᵇ | Aluminum (Atomic Absorption, Direct Aspiration).
7040 ᵇ | Antimony (Atomic Absorption, Direct Aspiration).
7041 ᶜ | Antimony (Atomic Absorption, Furnace Technique).
7060 ᵃ | Arsenic (Atomic Absorption, Furnace Technique).
7080A ᵇ | Barium (Atomic Absorption, Direct Aspiration).
7081 ᶜ | Barium (Atomic Absorption, Furnace Technique).
7090 ᵇ | Beryllium (Atomic Absorption, Direct Aspiration).
7091 ᶜ | Beryllium (Atomic Absorption, Furnace Technique).
7130 ᵇ | Cadmium (Atomic Absorption, Direct Aspiration).
7131A ᶜ | Cadmium (Atomic Absorption, Furnace Technique).
7140 ᵇ | Calcium (Atomic Absorption, Direct Aspiration).
7190 ᵇ | Chromium (Atomic Absorption, Direct Aspiration).
7191 ᶜ | Chromium (Atomic Absorption, Furnace Technique).
7200 ᵇ | Cobalt (Atomic Absorption, Direct Aspiration).
7201 ᶜ | Cobalt (Atomic Absorption, Furnace Technique).
7210 ᵇ | Copper (Atomic Absorption, Direct Aspiration).
7211 ᶜ | Copper (Atomic Absorption, Furnace Technique).
7380 ᵇ | Iron (Atomic Absorption, Direct Aspiration).
7381 ᶜ | Iron (Atomic Absorption, Furnace Technique).
7420 ᵇ | Lead (Atomic Absorption, Direct Aspiration).
7421 ᶜ | Lead (Atomic Absorption, Furnace Technique).
7430 ᵇ | Lithium (Atomic Absorption, Direct Aspiration).
7450 ᵇ | Magnesium (Atomic Absorption, Direct Aspiration).
7460 ᵇ | Manganese (Atomic Absorption, Direct Aspiration).
7461 ᶜ | Manganese (Atomic Absorption, Furnace Technique).
7480 ᵇ | Molybdenum (Atomic Absorption, Direct Aspiration).
7481 ᶜ | Molybdenum (Atomic Absorption, Furnace Technique).
7520 ᵇ | Nickel (Atomic Absorption, Direct Aspiration).
7521 ᶜ | Nickel (Atomic Absorption, Furnace Method).
7550 ᵇ | Osmium (Atomic Absorption, Direct Aspiration).
7610 ᵇ | Potassium (Atomic Absorption, Direct Aspiration).
7740 ᶜ | Selenium (Atomic Absorption, Furnace Technique).
7760A ᵇ | Silver (Atomic Absorption, Direct Aspiration).
7761 ᶜ | Silver (Atomic Absorption, Furnace Technique).
7770 ᵇ | Sodium (Atomic Absorption, Direct Aspiration).
7780 ᵇ | Strontium (Atomic Absorption, Direct Aspiration).
7840 ᵇ | Thallium (Atomic Absorption, Direct Aspiration).
7841 ᶜ | Thallium (Atomic Absorption, Furnace Technique).
7870 ᵇ | Tin (Atomic Absorption, Direct Aspiration).
7910 ᵇ | Vanadium (Atomic Absorption, Direct Aspiration).
7911 ᶜ | Vanadium (Atomic Absorption, Furnace Technique).
7950 ᵇ | Zinc (Atomic Absorption, Direct Aspiration).
7951 ᶜ | Zinc (Atomic Absorption, Furnace Technique)
ᵃ Replaced by Method 5021.
ᵇ Integrated into Method 7000B.
ᶜ Integrated into Method 7010.

Dated: December 20, 2007.
Susan Parker Bodine,
Assistant Administrator, Office of Solid Waste and Emergency Response.

[FR Doc. E7-25575 Filed 1-2-08; 8:45 am]

BILLING CODE 6560-50-P